DEPARTMENT OF ENERGY

Federal Energy Regulatory Commission

[Docket No. CP01-260-000]

Columbia Gas Transmission Corporation; Notice of Application

May 9, 2001.

Take notice that on May 2, 2001, Columbia Gas Transmission Corporation (Columbia), 12801 Fair Lakes Parkway, Fairfax, Virginia 22030-0146, filed in Docket No. CP01-260-000, an application, pursuant to Sections 7 (b) and (c) of the Natural Gas Act and Part 157 of the Commission's Regulations for abandonment authorization and a certificate of public convenience and necessity authorizing the construction and operation of certain pipeline, compression and appurtenant facilities in Delaware and Pennsylvania, all as more fully set forth in the application which is on file with the Commission and open to public inspection.

Columbia proposes to construct and operate the facilities in order to accommodate deliveries to a power plant being constructed by FPL Energy Marcus Hook L.P. (FPL) on the Delaware-Pennsylvania border. Specifically, Columbia proposes to construct 1.3 miles of 20-inch lateral pipeline in New Castle County, Delaware, and Delaware County, Pennsylvania. Columbia also proposes to construct and operate a 6,000 horsepower (hp) compressor unit at the existing Eagle Compressor Station in Chester County, Pennsylvania, a 6,000 hp compressor unit at the existing Downingtown Compressor Station in Chester County, Pennsylvania, and a new measuring and regulating (M&R) station on the power plant property in Delaware County, Pennsylvania. In addition, Columbia proposes to abandon 2 1,250 hp compressor units at the Downingtown Compressor Station. It is stated that Columbia is abandoning these units because of their age and condition and will no longer need these units when the new units are installed. In related construction under the automatic provisions of its blanket certificate authorization, Columbia proposes to install a new tap and valve at an existing M&R station at the intersection of Columbia's facilities with those of Transcontinental Gas Pipe Line Corporation in Chester County, Pennsylvania, and to replace existing regulators at an interconnection with the facilities of Texas Eastern Transmission Corporation, also in Chester County. Columbia proposes to provide firm transportation service for FPL, delivering 125,000 Dekatherms (dth) of natural gas per day to FPL's plant. Columbia estimates the total cost of the proposed facilities at $22.3 million.

Any questions regarding this application should be directed to M.D. Mamone, Certificates, at (304) 357-3164, Columbia Gas Transmission Company, P.O. Box 1273, Charleston, West Virginia 25325-1273.

There are two ways to become involved in the Commission's review of this project. First, any person wishing to obtain legal status by becoming a party to the proceedings for this project should, on or before May 30, 2001, file with the Federal Energy Regulatory Commission, 888 First Street, NE., Washington, DC 20426, a motion to intervene in accordance with the requirements of the Commission's Rules of Practice and Procedure (18 CFR 385.211 and 385.214) and the regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments, protests and interventions may be filed electronically via the internet in lieu of paper. See 18 CFR 385.2001(a)(1)(iii) and the Commission's website at— http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

David P. Boergers,
Secretary.

[FR Doc. 01-12149 Filed 5-14-01; 8:45 am]

BILLING CODE 6717-01-M